INTERNATIONAL TRADE COMMISSION

[Investigation No. 337-Ta-884]

Certain Consumer Electronics With Display and Processing Capabilities; Notice of Commission Determination To Grant a Joint Motion To Terminate the Investigation on the Basis of a Settlement Agreement; Termination of Investigation

AGENCY: U.S. International Trade Commission.

ACTION: Notice.

SUMMARY: Notice is hereby given that the U.S. International Trade Commission has determined to grant the joint motion to terminate the above-captioned investigation based upon a settlement agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 25, 2013, based on a complaint filed by Graphics Properties Holdings, Inc. of New Rochelle, New York (“GPH”), 78 FR 38072 (June 25, 2013). The complaint alleged violations of section 337 of the Tariff Act of 1930, as amended, 19 U.S.C. 1337 (“section 337”), in the importation into the United States, the sale for importation, and the sale within the United States after importation of certain consumer electronics with display and processing capabilities by reason of infringement of certain claims of United States Patent Nos. 6,650,327; 8,144,158; and 5,717,881. The notice of investigation named several entities as respondents, including Toshiba Corporation of Tokyo, Japan, and Toshiba America Information Systems, Inc. of Irvine, California (collectively “Toshiba”); Toshiba America, Inc. of New York, New York (“Toshiba America”). The Office of Unfair Import Investigations is a party to the investigation. The Commission has terminated the investigation with respect to the remaining respondents. See Notice (Aug. 16, 2013); Notice (Sept. 13, 2013); Notice (Dec. 20, 2013); Notice (Mar. 10, 2014); Notice (May 6, 2014). The Commission also later terminated the investigation in part with respect to certain claims of the asserted patents. Notice (Mar. 11, 2014); Notice (Apr. 25, 2014).

On August 29, 2014, the presiding administrative law judge issued his final initial determination (“ID”), finding a violation of section 337 with respect to Toshiba but finding no violation with respect to Toshiba America. Toshiba petitioned for review of the final ID, and the Commission determined to review certain aspects of the final ID regarding Toshiba. No party, however, petitioned for review of the final ID's finding regarding Toshiba America, and the Commission determined not to review that issue. See 79 FR 65698 (Nov. 5, 2014).

On October 30, 2014, the Commission determined to review the final ID in part with respect to issues of claim construction, validity, infringement, the domestic industry requirement, and Toshiba's affirmative defenses of licensing and RAND. 79 FR 65698 (November 5, 2014). The notice of review requested briefing on various issues of violation, remedy, bonding, and the public interest. Id.

The Commission twice extended the target date for completion of the investigation to accommodate the parties' settlement negotiations. Notice (Jan. 9, 2015); Notice (Feb. 4, 2015).

On February 4, 2015, GPH, Toshiba and Toshiba America filed a joint motion to terminate the investigation based on a settlement agreement pursuant to Commission Rule § 210.21(b). On February 18, 2015, the Commission investigative attorney filed a response supporting the joint motion.

The Commission has determined to grant the joint motion and to terminate the investigation in its entirety.

The authority for the Commission's determination is contained in section 337 of the Tariff Act of 1930, as amended (19 U.S.C. 1337), and in Part 210 of the Commission's Rules of Practice and Procedure (19 CFR part 210).

By order of the Commission.
Issued: February 27, 2015.
William R. Bishop,
Supervisory Hearings and Information Officer.

[FR Doc. 2015-05013 Filed 3-4-15; 8:45 am]

BILLING CODE 7020-02-P